DEPARTMENT OF ENERGY

Federal Energy Regulatory Commission

[Project No: 6461-025]

City of Port Angeles, Washington; Notice of Application for Amendment of License and Soliciting Comments, Motions to Intervene, and Protests

September 14, 2007.

Take notice that the following application has been filed with the Commission and is available for public inspection:

a. Application Type: Request for Amendment of License.

b. Project No: 6461-025.

c. Date Filed: August 13, 2007.

d. Applicant: City of Port Angeles, Washington.

e. Name of Project: Morse Creek Hydroelectric Project.

f. Location: The project is located on Morse Creek in Clallam County, Washington.

g. Filed Pursuant to: Federal Power Act 16 U.S.C. 791a-825r.

h. Applicant Contact: Scott McLain, City of Port Angeles, 321 East Fifth Street, P.O. Box 1150, Port Angeles, WA 98362-0217, (360) 417-4703.

i. FERC Contact: Any questions on this notice should be addressed to Mr. Erich Gaedeke at (503) 552-2716, or e-mail address: erich.gaedeke@ferc.gov.

j. Deadline for filing comments and or motions: October 15, 2007.

All documents (original and eight copies) should be filed with: Secretary, Federal Energy Regulatory Commission, 888 First Street, NE., Washington DC 20426.

The Commission's Rules of Practice and Procedure require all intervenors filing documents with the Commission to serve a copy of that document on each person whose name appears on the official service list for the project. Further, if an intervenors files comments or documents with the Commission relating to the merits of an issue that may affect the responsibilities of a particular resource agency, they must also serve a copy of the document on that resource agency. A copy of any motion to intervene must also be served upon each representative of the Applicant specified in the particular application.

k. Description of Request: The Applicant is proposing to stipulate minimum flows in all months of the year for the protection of Chinook salmon and bull trout, both listed as threatened species under the Endangered Species Act, whereas the current FERC license stipulates minimum flows for only 5 months of the year. The proposed amendment would maintain higher stream flows in Morse Creek during all months of the year in order to provide a greater assurance that flow-related habitat is protected for the listed species as well as other salmonids and steelhead that inhabit Morse Creek.

l. Locations of the Application: A copy of the application is available for inspection and reproduction at the Commission's Public Reference Room, located at 888 First Street, NE., Room 2A, Washington, DC 20426, or by calling (202) 208-1371. This filing may also be viewed on the web at http://www.ferc.gov using the “eLibrary” link. Enter the docket number excluding the last three digits in the docket number field to access the document. You may also register online at http://www.ferc.gov.docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “RECOMMENDATIONS FOR TERMS AND CONDITIONS”, “PROTEST”, OR “MOTION TO INTERVENE”, as applicable, and the Project Number of the particular application to which the filing refers.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing link.

Kimberly D. Bose,
Secretary.

[FR Doc. E7-18667 Filed 9-20-07; 8:45 am]

BILLING CODE 6717-01-P